DEPARTMENT OF THE INTERIOR

Bureau of Land Management

[LLCOF02400.L16100000. LXSSC0100000.DO0000.19X]

Notice of Intent To Prepare a Resource Management Plan and Associated Environmental Impact Statement for the Browns Canyon National Monument, Colorado

AGENCY: Bureau of Land Management, Interior.

ACTION: Notice of intent.

SUMMARY: In compliance with the National Environmental Policy Act of 1969, as amended (NEPA); the Federal Land Policy and Management Act of 1976, as amended (FLPMA); and the National Forest Management Act of 1976, as amended (NFMA); the Bureau of Land Management (BLM) Royal Gorge Field Office (RGFO), Cañon City, Colorado and U.S. Forest Service (USFS), Pike-San Isabel National Forests and Comanche-Cimarron National Grasslands (PSICC), Pueblo, Colorado, intend to prepare a joint Resource Management Plan (RMP) and Forest Plan (FP) amendment, supported by an Environmental Impact Statement (EIS), for the Browns Canyon National Monument (BCNM). This notice announces the public scoping process to solicit comments and identify issues for BLM and USFS consideration in the EIS. The management plan will revise a portion of the existing Royal Gorge RMP and amend the Pike-San Isabel National Forests and Comanche-Cimarron National Grasslands FP.

DATES: This notice initiates the public scoping process for the RMP-FP and EIS. Comments on issues may be submitted in writing until June 13, 2019. The date(s) and location(s) of any scoping meetings will be announced at least 15 days in advance through local media, newspapers and the BLM website at: https://go.usa.gov/xn2eC. In order to be considered in the Draft EIS, all comments must be received prior to the close of the 30-day scoping period or 15 days after the last public meeting, whichever is later. The BLM and USFS will provide additional opportunities for public participation upon publication of the Draft EIS.

ADDRESSES: You may submit comments on issues and planning criteria related to the BCNM RMP-FP and EIS by the following methods:

• Electronically via the BLM ePlanning website: https://go.usa.gov/xn2eC

• Hard copy via mail to: BCNM RMP/EIS, 5575 Cleora Road, Salida, CO 81201

Documents pertinent to this proposal may be examined at the RGFO, 3028 E. Main St., Cañon City, Colorado 81212, at the PSICC Salida Ranger District, 5575 Cleora Road, Salida, CO 81201, or on the BLM ePlanning website at https://go.usa.gov/xn2eC.

FOR FURTHER INFORMATION CONTACT: Joseph Vieira, Project Manager, telephone 719-246-9966; address 5575 Cleora Road, Salida, Colorado 81201; email blm_co_brownscanyon@blm.gov. Contact Mr. Vieira at blm_co_brownscanyon@blm.gov to add your name to our mailing list. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: This document provides notice that the BLM RGFO and USFS PSICC intend to prepare a joint RMP/FP and EIS for the BCNM, announces and initiates the public scoping process, and seeks public input on issues and planning criteria. The USFS published a Notice of Intent to begin the Plan Assessment Phase of its planning process on April 17, 2017, consistent with 36 CFR 219 Subpart B. The planning area is located in Chaffee County, Colorado and encompasses approximately 21,600 acres (9,790 acres on BLM and 11,810 acres on USFS) of public land and national forest. The purpose of the public scoping process is to determine relevant issues that will influence the scope of the environmental analysis, develop alternatives and guide the planning process. Preliminary issues for the planning area have been identified by the BLM and USFS personnel; Federal, State, and local agencies; and other stakeholders. The issues include: Managing for sustainable outdoor recreation, visitor growth and visitor enjoyment; conserving and protecting monument resources and objects or values including bighorn sheep, peregrine falcon, terrestrial and avian wildlife habitat, cultural and historical resources, geological features and riparian values; understanding and addressing tribal values; and addressing existing uses such as livestock grazing. Preliminary planning criteria include: Compliance with FLPMA, NFMA, NEPA, and other applicable laws and regulations; consultation and coordination with Native American Tribes with due consideration to Tribal concerns; incorporate the BLM Colorado Standards for Public Land Health and USFS planning criteria; management decision consistency across agency boundaries within the BCNM and with other contiguous public lands; continue managing Wilderness Study Areas under the Interim Management Policy for Lands under Wilderness Review until Congress acts on a designation or releases lands from consideration; recognize valid existing land-use and ownership rights; include adaptive management criteria to explore alternative ways to meet future management objectives; comply with existing plans and policies of adjacent local, State, Federal agencies and local Native American Tribes to the extent practicable; and use the best available scientific information and research where practicable for the planning effort.

The BLM and USFS will evaluate identified issues to be addressed in the plan, and will place them into one of three categories:

1. Issues to be resolved in the plan;

2. Issues to be resolved through policy or administrative action; or

3. Issues beyond the scope of this plan.

The BLM and USFS will provide an explanation in the Draft RMP-FP and Draft EIS as to why an issue was placed in category two or three. The public is encouraged to help identify any management questions and concerns that should be addressed in the plan. The BLM and USFS will work collaboratively with interested parties to identify management decisions best suited to local, regional, and national needs and concerns. The BLM and USFS use and coordinate the NEPA scoping process to help fulfill the public involvement process under the National Historic Preservation Act (54 U.S.C. 306108) as provided in 36 CFR 800.2(d)(3). The information about historic and cultural resources within the area potentially affected by the proposed action will assist the BLM and USFS in identifying and evaluating impacts to such resources.

The BLM and USFS will consult with Native American Tribes on a government-to-government basis in accordance with Executive Order 13175 and other policies. Tribal concerns, including impacts on Native American trust assets and potential impacts to cultural resources, will be given due consideration. Federal, State, and local agencies, along with Tribes and other stakeholders that may be interested in or affected by the proposed action that the BLM and USFS are evaluating, are invited to participate in the scoping process and, if eligible, may request or may be requested by the BLM and USFS to participate in the development of the environmental analysis as a cooperating agency. The BLM and USFS will use a joint interdisciplinary approach to develop the plan in order to consider the variety of resource issues and concerns identified. Specialists with expertise in the following disciplines will be involved in the planning process: Outdoor recreation, wildlife and fisheries, threatened and endangered species; vegetation; invasive and noxious weeds; rangeland management; forestry; soils; hydrology; riparian systems; cultural resources and Native American interests; minerals and geology; fire ecology and management; paleontology; lands and realty; sociology and economics; visual resource management; law enforcement; and geographic information systems.

You may submit comments on issues and planning criteria in writing to the BLM at any public scoping meeting, or you may submit them to the BLM using one of the methods listed in the ADDRESSES section above. To be most helpful, you should submit comments by the close of the 30-day scoping period or within 15 days after the last public meeting, whichever is later.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Jamie E. Connell,
BLM Colorado State Director.

[FR Doc. 2019-09837 Filed 5-13-19; 8:45 am]

BILLING CODE 4310-JB-P